DEPARTMENT OF THE INTERIOR

National Park Service

Draft General Management Plan and Environmental Impact Statement for Sagamore Hill National Historic Site, New York

AGENCY: National Park Service, Interior.

ACTION: Notice of availability.

SUMMARY: In accordance with the National Environmental Policy Act of 1969 (Pub. L. 91-109 section 102(2)(C)), the National Park Service (NPS) announces the availability of a Draft General Management Plan (GMP) and Environmental Impact Statement (EIS) for Sagamore Hill National Historic Site (NHS), located in the town of Oyster Bay, Nassau County, New York. Consistent with National Park Service rules, regulations, and policies, and the park's mission, the Draft GMP/EIS describes and analyzes two action alternatives to guide the management and development of Sagamore Hill NHS over the next 15 to 20 years. The action alternatives incorporate various management prescriptions to ensure protection and enjoyment of the park's resources. A status quo alternative (see below) is also evaluated. The Draft GMP/EIS evaluates potential environmental consequences of implementing the alternatives. Impact topics include cultural and natural resources, visitor experience, park operations, and the socioeconomic environment.

DATES: The Draft GMP/EIS will be available for public review for 60 days from the date of publication of the EPA notice of availability in the Federal Register. The National Park Service will hold a public meeting during the public review period to solicit comments. Meeting date, time, and location will be announced in local media in advance of the meeting date. Comments on the Draft GMP/EIS must be received at one of the addresses below no later than 60 days from the date of publication of the EPA notice of availability in the Federal Register.

ADDRESSES: Comments on the Draft GMP/EIS should be mailed to: Superintendent, Sagamore Hill National Historic Site, 20 Sagamore Hill Road, Oyster Bay, NY 11771-1809, or sent by e-mail to: ellen_carlson@nps.gov. Comments may also be submitted at the park's Web site: http://www.nps.gov/sahi.

FOR FURTHER INFORMATION CONTACT: Copies of the Draft GMP/EIS are available upon request by writing to: Ellen Carlson, Project Planner, National Park Service, Northeast Region, 15 State Street, Boston, MA 02109; e-mailing ellen_carlson@nps.gov, or calling (617) 223-5048. The Draft GMP/EIS also is available for pick up in person at Sagamore Hill National Historic Site at 20 Sagamore Hill Road, Oyster Bay, New York, at the park's administrative offices in the Old Orchard Museum during regular business hours. It is also available on the park's Web site at http://www.nps.gov/sahi.

SUPPLEMENTARY INFORMATION: NPS planning staff, staff at Sagamore Hill, and key park partners collaborated in the development of the Draft GMP/EIS. A previous master plan was prepared for the park in 1963 but was not approved. Project scoping for the GMP began in May 2003. Formal public scoping sessions were held in Oyster Bay and NYC in April 2004. A preliminary alternatives newsletter was prepared and distributed in April 2005 followed by two community meetings.

The Draft GMP/EIS addresses the following issues—improving the visitor experience, broadening and diversifying the park audience, improving operational efficiency, and enhancing resource protection. Key park partners closely involved in the development of planning alternatives include the Theodore Roosevelt Association, the Friends of Sagamore Hill, and the park's Volunteer Advisory Board.

In addition to Alternative 1—Status Quo, which describes the continuation of current management practices, the plan includes two action alternatives. Alternative 2—Building Capacity emphasizes building the park's capacity to address its basic visitor services and operational needs. Alternative 3 is the National Park Service's preferred alternative. Alternative 3—Past Meets Present emphasizes rehabilitation of the park's cultural resources and improvements to its visitor services and facilities to offer expanded opportunities for visitors to explore the site's contemporary relevance in the same context in which they explore its history.

After public review of the Draft GMP/EIS, the National Park Service will consider public comments, and a Final GMP/EIS will be prepared. The Final GMP/EIS is scheduled for completion in 2007. Before including your address, phone number, e-mail address or other personal identifying information in your comment, you should be aware that your entire comment—including your personal identifying information—may be made publicly available at any time. While you can ask us in your comment to withhold your personal identifying information from public review, we cannot guarantee that we will be able to do so.

Dated: February 26, 2007.
Dennis Reidenbach,
Acting Regional Director, Northeast Region.

[FR Doc. E7-4134 Filed 3-7-07; 8:45 am]

BILLING CODE 4310-D9-P